DEPARTMENT OF ENERGY

Federal Energy Regulatory Commission

Combined Notice of Filings #1

Take notice that the Commission received the following electric corporate filings:

Docket Numbers: EC23-32-000.

Applicants: Brookfield Smoky Mountain Hydropower LP, Smoky Mountain Transmission LLC, AMF Kimble Holdings, LLC.

Description: Joint Application for Authorization Under Section 203 of the Federal Power Act of Brookfield Smoky Mountain Hydropower LP et al.

Filed Date: 11/22/22.

Accession Number: 20221122-5226.

Comment Date: 5 pm ET 12/9/22.

Take notice that the Commission received the following exempt wholesale generator filings:

Docket Numbers: EG23-26-000.

Applicants: Yellow Pine Solar Interconnect, LLC.

Description: Yellow Pine Solar Interconnect, LLC Notice of Self-Certification of Exempt Wholesale Generator Status.

Filed Date: 11/21/22.

Accession Number: 20221121-5219.

Comment Date: 5 pm ET 12/9/22.

Take notice that the Commission received the following electric rate filings:

Docket Numbers: ER21-2454-000.

Applicants: Rainbow Energy Marketing Corporation.

Description: Refund Report for August 2020 of Rainbow Energy Marketing Corporation.

Filed Date: 11/16/22.

Accession Number: 20221116-5188.

Comment Date: 5 pm ET 12/7/22.

Docket Numbers: ER22-2933-000.

Applicants: Nevada Power Company, Sierra Pacific Power Company.

Description: Supplement to September 26, 2022 Nevada Power Company tariff filing.

Filed Date: 11/21/22.

Accession Number: 20221121-5110.

Comment Date: 5 pm ET 12/9/22.

Docket Numbers: ER23-375-001.

Applicants: Colice Hall Solar, LLC.

Description: Tariff Amendment: Supplement to Application for Market-Based Rate Authority to be effective 12/15/2022.

Filed Date: 11/23/22.

Accession Number: 20221123-5102.

Comment Date: 5 pm ET 12/14/22.

Docket Numbers: ER23-480-000.

Applicants: Savion, LLC, Madison Fields Solar Project, LLC, Shell Energy North America (US), L.P.

Description: Savion, LLC, Madison Fields Solar Project, LLC, et al. Request a One Time Limited Waiver of a Procedural Deadline set forth in Sec. 5.14(h-2)(1)(A) of Attachment DD to the PJM Interconnection, L.L.C. Tariff.

Filed Date: 11/18/22.

Accession Number: 20221118-5276.

Comment Date: 5 pm ET 11/28/22.

Docket Numbers: ER23-483-000.

Applicants: PJM Interconnection, L.L.C.

Description: § 205(d) Rate Filing: Amendment to ISA No. 5071; Queue No. AB1-132 to be effective 4/16/2018.

Filed Date: 11/23/22.

Accession Number: 20221123-5006.

Comment Date: 5 pm ET 12/9/22.

Docket Numbers: ER23-484-000.

Applicants: Unitil Energy Systems, Inc.

Description: Tariff Amendment: Partial cancellation Hydro Wheeling Agreement to be effective 10/1/2022.

Filed Date: 11/23/22.

Accession Number: 20221123-5015.

Comment Date: 5 pm ET 12/14/22.

Docket Numbers: ER23-485-000.

Applicants: Public Service Company of Colorado.

Description: § 205(d) Rate Filing: WAPA Ault-Husky Con Agrmt Amnd 1-567-0.1.0 to be effective 11/24/2022.

Filed Date: 11/23/22.

Accession Number: 20221123-5027.

Comment Date: 5 pm ET 12/14/22.

Docket Numbers: ER23-486-000.

Applicants: Arizona Public Service Company.

Description: § 205(d) Rate Filing: Rate Schedule No. 217, Exhibit B.SGR to be effective 1/23/2023.

Filed Date: 11/23/22.

Accession Number: 20221123-5029.

Comment Date: 5 pm ET 12/14/22.

Docket Numbers: ER23-487-000.

Applicants: Rivercrest Power-South, LLC

Description: Compliance filing: Baseline refile to be effective 9/29/2022.

Filed Date: 11/23/22.

Accession Number: 20221123-5032.

Comment Date: 5 pm ET 12/14/22.

Docket Numbers: ER23-488-000.

Applicants: ISO New England Inc., Eversource Energy Service Company (as agent).

Description: § 205(d) Rate Filing: ISO New England Inc. submits tariff filing per 35.13(a)(2)(iii): ISO-NE/Eversource; First Revised Service Agreement No. LGIA-ISONE/NSTAR-20-01 to be effective 11/4/2022.

Filed Date: 11/23/22.

Accession Number: 20221123-5033.

Comment Date: 5 pm ET 12/14/22.

Docket Numbers: ER23-489-000.

Applicants: Neptune Energy Center, LLC.

Description: Baseline eTariff Filing: Neptune Energy Center, LLC Application for Market-Based Rate Authorization to be effective 1/23/2023.

Filed Date: 11/23/22.

Accession Number: 20221123-5054.

Comment Date: 5 pm ET 12/14/22.

Docket Numbers: ER23-490-000.

Applicants: Louisville Gas and Electric Company.

Description: Compliance filing: Order No. 676-J Compliance Filing to be effective 1/27/2023.

Filed Date: 11/23/22.

Accession Number: 20221123-5055.

Comment Date: 5 pm ET 12/14/22.

Docket Numbers: ER23-491-000.

Applicants: Power Authority of the State of New York, New York Independent System Operator, Inc.

Description: § 205(d) Rate Filing: Power Authority of the State of New York submits tariff filing per 35.13(a)(2)(iii): Section 205 Filing of NYPA: Proposed Formula Rate Amendments to be effective 1/24/2023.

Filed Date: 11/23/22.

Accession Number: 20221123-5059.

Comment Date: 5 pm ET 12/14/22.

Docket Numbers: ER23-492-000.

Applicants: Tri-State Generation and Transmission Association, Inc.

Description: § 205(d) Rate Filing: Initial Filing of Service Agreement FERC No. 909 to be effective 11/17/2022.

Filed Date: 11/23/22.

Accession Number: 20221123-5070.

Comment Date: 5 pm ET 12/14/22.

Docket Numbers: ER23-493-000.

Applicants: Thunder Wolf Energy Center, LLC.

Description: Baseline eTariff Filing: Thunder Wolf Energy Center, LLC Application for Market-Based Rate Authorization to be effective 1/23/2023.

Filed Date: 11/23/22.

Accession Number: 20221123-5099.

Comment Date: 5 pm ET 12/14/22.

Docket Numbers: ER23-494-000.

Applicants: Goose Creek Wind, LLC.

Description: Baseline eTariff Filing: Reactive Power Tariff Application to be effective 12/31/9998.

Filed Date: 11/23/22.

Accession Number: 20221123-5165.

Comment Date: 5 pm ET 12/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2022.
Kimberly D. Bose,
Secretary.

[FR Doc. 2022-26096 Filed 11-29-22; 8:45 am]

BILLING CODE 6717-01-P